DEPARTMENT OF HOMELAND SECURITY

Customs and Border Protection

Undertakings of the Department of Homeland Security Bureau of Customs and Border Protection Regarding the Handling of Passenger Name Record Data

Correction

In notice document 04-15642 beginning on page 41543 in the issue of Friday, July 9, 2004, make the following correction:

On page 41546, in the third column, under footnote 11, the fifth line should read “manner that complies with relevant laws (see footnote 13). The determinations of the Chief Privacy Officer shall be binding on the Department and may not be overturned on political grounds.”

[FR Doc. C4-15642 Filed 7-22-04; 8:45 am]

BILLING CODE 1505-01-D